DEPARTMENT OF TRANSPORTATION

Federal Aviation Administration

14 CFR Part 71

[Docket No. FAA-2022-0797; Airspace Docket No. 20-ANM-44]

RIN 2120-AA66

Proposed Amendment of Class D Airspace and Establishment of Class E Airspace; Butts Army Airfield (AAF) (Fort Carson) Airport, CO

AGENCY: Federal Aviation Administration (FAA), Department of Transportation (DOT).

ACTION: Notice of proposed rulemaking (NPRM).

SUMMARY: An airspace review was conducted at Butts AAF (Fort Carson) Airport, CO to support the airport's transition from visual flight rules (VFR) to instrument flight rules (IFR), in addition to fulfilling a biennial review requirement. This action proposes to modify the Class D surface area, and establish Class E airspace extending upward from 700 feet above the surface at Butts AAF (Fort Carson) Airport, CO. Additionally, this action proposes several administrative amendments to update the airport's existing Class D legal description. These actions will ensure the safety and management of instrument flight rules (IFR) and visual flight rules (VFR) operations at the airport.

DATES: Comments must be received on or before September 16, 2022.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2022-0797; Airspace Docket No. 20-ANM-44, at the beginning of your comments. You may also submit comments through the internet at www.regulations.gov.

FAA Order JO 7400.11F, Airspace Designations and Reporting Points, and subsequent amendments can be viewed online at www.faa.gov/air_traffic/publications. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart i, Section 40103. Under that section, the FAA is charged with prescribing regulations to assign the use of airspace necessary to ensure the safety of aircraft and the efficient use of airspace. This regulation is within the scope of that authority, as it would modify Class D airspace and establish Class E airspace at Butts AAF (Fort Carson) Airport, CO, to support IFR and VFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0797; Airspace Docket No. 20-ANM-44”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying the Class D surface area, and establishing Class E airspace extending upward from 700 feet above the surface at Butts AAF (Fort Carson) Airport, CO.

Class D airspace should be expanded to the northwest to contain runway 31 departures until reaching 700 feet above the surface due to rising terrain in that area.

Class E airspace extending upward from 700 feet above the surface should be established southeast and north of the airport to properly contain departures until reaching 1,200 feet above the surface in those areas.

Finally, this action proposes several administrative modifications to the airspace at Butts AAF (Fort Carson) Airport, CO. The airport name in the text header is incorrect. It should read: “Butts AAF (Fort Carson) Airport, CO.” The other airport referenced in the Class D legal description is also incorrect. It should read: “City of Colorado Springs Municipal Airport, CO.” The geographic coordinates for both Butts AAF (Fort Carson) Airport, CO and the City of Colorado Springs Municipal Airport, CO should be updated to match the FAA's database. Additionally, the outdated terms “Notice to Airmen” and “Airport/Facility Directory” should be replaced with the terms “Notice to Air Missions,” and “Chart Supplement,” respectively, to better match the FAA's current nomenclature. Lastly, the reference to the Iron Horse non-directional beacon (NDB), CO should be removed from the Class D legal description's text header, as it's not required to describe the airspace, and its removal simplifies the legal description.

Class D and E5 airspace designations are published in paragraphs 5000 and 6005, respectively, of FAA Order JO 7400.11F, dated August 10, 2021, and effective September 15, 2021, which is incorporated by reference in 14 CFR 71.1. The Class D and Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM CO D Fort Carson, CO [Amended]

Butts AAF (Fort Carson) Airport, CO

(Lat. 38°40′47″ N, long. 104°45′39″ W)

City of Colorado Springs Municipal Airport, CO

(Lat. 38°48′21″ N, long. 104°42′03″ W)

That airspace extending upward from the surface to but not including 8,400 feet MSL within a 4.3-mile radius of Butts Army Airfield Airport, and within 2.3 miles each side of the 331° bearing from the Butts Army Airfield Airport extending from the 4.3-mile radius to 6.9 miles northwest of the airport, excluding that airspace within the City of Colorado Springs Municipal Airport's Class C airspace area. This Class D airspace area is effective during the specific dates and times established in advance by a Notice to Air Missions. The effective dates and times will thereafter be continuously published in the Chart Supplement.

Paragraph 6005 Class E Airspace Areas Extending Upward From 700 Feet or More Above the Surface of the Earth.

* * * * *

ANM CO E5 Fort Carson, CO [New]

Butts AAF (Fort Carson) Airport, CO

(Lat. 38°40′47″ N, long. 104°45′39″ W)

That airspace extending upward from 700 feet above the surface within 2.0 miles each side of the 125° bearing from the airport extending from the Butts Army Airfield Airport Class D to 7.7 miles southeast of the airport, and within 2.1 miles each side of the 342° bearing from the airport extending from the Butts Army Airfield Airport Class D to 9 miles north of the airport.

Issued in Des Moines, Washington.
Joseph M. Bert,
Acting Group Manager, Operations Support Group, Western Service Center.

[FR Doc. 2022-16393 Filed 8-1-22; 8:45 am]

BILLING CODE 4910-13-P